DEPARTMENT OF ENERGY

Federal Energy Regulatory Commission

Combined Notice of Filings

Take notice that the Commission has received the following Natural Gas Pipeline Rate and Refund Report filings:

Filings Instituting Proceedings

Docket Number: PR18-40-000.

Applicants: Columbia Gas of Maryland, Inc.

Description: Tariff filing per 284.123(b),(e)/.224: CMD SOC Rates, Effective April 2, 2018.

Filed Date: 4/3/18.

Accession Number: 201804035071.

Comments/Protests Due: 5 p.m. ET 4/24/18.

Docket Numbers: RP18-680-000.

Applicants: Dogwood Energy LLC, Missouri Joint Municipal Electric Util.

Description: Request for Waiver and Expedited Action of Dogwood Energy LLC, et al.

Filed Date: 4/3/18.

Accession Number: 20180403-5197.

Comments Due: 5 p.m. ET 4/16/18.

Docket Numbers: RP18-681-000.

Applicants: Guardian Pipeline, L.L.C.

Description: § 4(d) Rate Filing: Revision to Rate Schedule PAL to be effective 5/4/2018.

Filed Date: 4/4/18.

Accession Number: 20180404-5072.

Comments Due: 5 p.m. ET 4/16/18.

Docket Numbers: RP18-682-000.

Applicants: Gulf Crossing Pipeline Company LLC.

Description: § 4(d) Rate Filing: Amendment to Neg Rate Agmt (BP 37-26) to be effective 4/5/2018.

Filed Date: 4/4/18.

Accession Number: 20180404-5075.

Comments Due: 5 p.m. ET 4/16/18.

Docket Numbers: RP18-683-000.

Applicants: Gulf Crossing Pipeline Company LLC.

Description: § 4(d) Rate Filing: Cap Rel Neg Rate Agmts (Newfield 18 to BP 1968, 1969) to be effective 4/3/2018.

Filed Date: 4/4/18.

Accession Number: 20180404-5080.

Comments Due: 5 p.m. ET 4/16/18.

Docket Numbers: RP18-684-000.

Applicants: Midwestern Gas Transmission Company.

Description: § 4(d) Rate Filing: Revision to Rate Schedules FPAL & PAL to be effective 5/4/2018.

Filed Date: 4/4/18.

Accession Number: 20180404-5083.

Comments Due: 5 p.m. ET 4/16/18.

Docket Numbers: RP18-685-000.

Applicants: Viking Gas Transmission Company.

Description: § 4(d) Rate Filing: Revision to Rate Schedule PAL to be effective 5/4/2018.

Filed Date: 4/4/18.

Accession Number: 20180404-5087.

Comments Due: 5 p.m. ET 4/16/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 5, 2018.
Nathaniel J. Davis, Sr.,
Deputy Secretary.

[FR Doc. 2018-07881 Filed 4-13-18; 8:45 am]

BILLING CODE 6717-01-P